DEPARTMENT OF ENERGY

Federal Energy Regulatory Commission

Combined Notice of Filings #1

July 26, 2010.

Take notice that the Commission received the following electric rate filings:

Docket Numbers: ER93-3-007.

Applicants: The United Illuminating Company.

Description: Response of The United Illuminating Company to Commission Staff Request.

Filed Date: 07/22/2010.

Accession Number: 20100722-5155.

Comment Date: 5 p.m. Eastern Time on Thursday, August 12, 2010.

Docket Numbers: ER01-48-019.

Applicants: Powerex Corp.

Description: Powerex Corp. Non-Material Change in Status.

Filed Date: 07/26/2010.

Accession Number: 20100726-5122.

Comment Date: 5 p.m. Eastern Time on Monday, August 16, 2010.

Docket Numbers: ER06-1399-007.

Applicants: Sunbury Generation LP.

Description: Notice of non-Material Change in Status of Sunbury Generation LP.

Filed Date: 07/26/2010.

Accession Number: 20100726-5133.

Comment Date: 5 p.m. Eastern Time on Monday, August 16, 2010.

Docket Numbers: ER08-695-004; EL07-39-006.

Applicants: New England Conference of Public Utilities.

Description: Errata filing of New York Independent System Operator, Inc.

Filed Date: 07/22/2010.

Accession Number: 20100722-5031.

Comment Date: 5 p.m. Eastern Time on Thursday, August 12, 2010.

Docket Numbers: ER10-1357-002.

Applicants: Southern California Edison Company.

Description: Southern California Edison Company submits tariff filing per 35: TOT_Sec 8_Amendment_072210 to be effective 6/1/2010.

Filed Date: 07/22/2010.

Accession Number: 20100722-5000.

Comment Date: 5 p.m. Eastern Time on Thursday, August 12, 2010.

Docket Numbers: ER10-1383-001; ER07-412-005; ER06-745-005; ER09-1099-004; ER10-1089-001; ER99-1714-009.

Applicants: Dighton Power, LLC; ECP Energy I, LLC; MASSPOWER; Empire Generating Co., LLC; EquiPower Resources Management, LLC; Lake Road Generating Company, L.P.

Description: ECP MBR Entities submits additional information in response to a discussion with Commission Staff on the Notice Filing.

Filed Date: 07/20/2010.

Accession Number: 20100720-0015.

Comment Date: 5 p.m. Eastern Time on Tuesday, August 10, 2010.

Docket Numbers: ER10-1789-001.

Applicants: PSEG Energy Resources & Trade LLC.

Description: PSEG Energy Resources & Trade LLC submits tariff filing per 35: Filing in compliance with FERC Letter Order of May 17, 2010 to be effective 7/1/2010.

Filed Date: 07/23/2010.

Accession Number: 20100723-5165.

Comment Date: 5 p.m. Eastern Time on Friday, August 13, 2010.

Docket Numbers: ER10-1885-000.

Applicants: Delta Energy Center, LLC.

Description: Delta Energy Center, LLC submits tariff filing per 35.12: Market-Based Rate Tariff in Compliance with Order No. 714 to be effective 7/22/2010.

Filed Date: 07/22/2010.

Accession Number: 20100722-5096.

Comment Date: 5 p.m. Eastern Time on Thursday, August 12, 2010.

Docket Numbers: ER10-1886-000.

Applicants: Decatur Energy Center, LLC.

Description: Decatur Energy Center, LLC submits tariff filing per 35.12: Market-Based Rate Tariff in Compliance with Order No. 714 to be effective 7/22/2010.

Filed Date: 07/22/2010.

Accession Number: 20100722-5097.

Comment Date: 5 p.m. Eastern Time on Thursday, August 12, 2010.

Docket Numbers: ER10-1887-000.

Applicants: FPL Energy Cowboy Wind, LLC.

Description: FPL Energy Cowboy Wind, LLC submits tariff filing per 35.12: Cowboy Baseline Filing to be effective 7/22/2010.

Filed Date: 07/22/2010.

Accession Number: 20100722-5099.

Comment Date: 5 p.m. Eastern Time on Thursday, August 12, 2010.

Docket Numbers: ER10-1888-000.

Applicants: Creed Energy Center, LLC.

Description: Creed Energy Center, LLC submits tariff filing per 35.12: Market-Based Rate Tariff in Compliance with Order No. 714 to be effective 7/22/2010.

Filed Date: 07/22/2010.

Accession Number: 20100722-5103.

Comment Date: 5 p.m. Eastern Time on Thursday, August 12, 2010.

Docket Numbers: ER10-1889-000.

Applicants: CPN Bethpage 3rd Turbine, Inc.

Description: CPN Bethpage 3rd Turbine, Inc. submits tariff filing per 35.12: Market-Based Rate Tariff in Compliance with Order No. 714 to be effective 7/22/2010.

Filed Date: 07/22/2010.

Accession Number: 20100722-5108.

Comment Date: 5 p.m. Eastern Time on Thursday, August 12, 2010.

Docket Numbers: ER10-1890-000.

Applicants: FPL Energy Green Power Wind, LLC.

Description: FPL Energy Green Power Wind, LLC submits tariff filing per 35.12: Green Power Baseline Filing to be effective 7/22/2010.

Filed Date: 07/22/2010.

Accession Number: 20100722-5110

Comment Date: 5 p.m. Eastern Time on Thursday, August 12, 2010

Docket Numbers: ER10-1891-000.

Applicants: Citigroup Energy Inc.

Description: Citigroup Energy Inc. submits tariff filing per 35.12: Citigroup Energy Inc. MBR Tariff to be effective 7/22/2010.

Filed Date: 07/22/2010.

Accession Number: 20100722-5115.

Comment Date: 5 p.m. Eastern Time on Thursday, August 12, 2010.

Docket Numbers: ER10-1892-000.

Applicants: Columbia Energy LLC.

Description: Columbia Energy LLC submits tariff filing per 35.12: Market-Based Rate Tariff in Compliance with Order No. 714 to be effective 7/22/2010.

Filed Date: 07/22/2010.

Accession Number: 20100722-5116.

Comment Date: 5 p.m. Eastern Time on Thursday, August 12, 2010.

Docket Numbers: ER10-1893-000.

Applicants: CES Marketing X, LLC.

Description: CES Marketing X, LLC submits tariff filing per 35.12: Market-Based Rate Tariff in Compliance with Order No. 714 to be effective 7/22/2010.

Filed Date: 07/22/2010.

Accession Number: 20100722-5117.

Comment Date: 5 p.m. Eastern Time on Thursday, August 12, 2010.

Docket Numbers: ER10-1894-000; ER10-1894-001.

Applicants: Wisconsin Public Service Corporation.

Description: Wisconsin Public Service Corporation submits tariff filing per 35.12: Market Based Rate Tariff, Volume No. 10 to be effective 7/22/2010.

Filed Date: 07/22/2010; 07/23/2010.

Accession Number: 20100722-5119; 20100723-5079.

Comment Date: 5 p.m. Eastern Time on Thursday, August 12, 2010.

Docket Numbers: ER10-1895-000.

Applicants: KIAC Partners.

Description: KIAC Partners submits tariff filing per 35.12: Market-Based Rate Tariff in Compliance with Order No. 714, to be effective 7/22/2010.

Filed Date: 07/22/2010.

Accession Number: 20100722-5121.

Comment Date: 5 p.m. Eastern Time on Thursday, August 12, 2010.

Docket Numbers: ER10-1896-000.

Applicants: Citigroup Energy Canada ULC.

Description: Citigroup Energy Canada ULC submits tariff filing per 35.12: Citigroup Energy Canada ULC MBR Tariff to be effective 7/22/2010.

Filed Date: 07/22/2010.

Accession Number: 20100722-5125.

Comment Date: 5 p.m. Eastern Time on Thursday, August 12, 2010.

Docket Numbers: ER10-1897-000.

Applicants: FPL Energy Hancock County Wind, LLC.

Description: FPL Energy Hancock County Wind, LLC submits tariff filing per 35.12: Hancock County Baseline Filing, to be effective 7/22/2010.

Filed Date: 07/22/2010.

Accession Number: 20100722-5127.

Comment Date: 5 p.m. Eastern Time on Thursday, August 12, 2010.

Docket Numbers: ER10-1898-000.

Applicants: CES Marketing V, L.P.

Description: CES Marketing V, L.P. submits tariff filing per 35.12: Market-Based Rate Tariff in Compliance with Order No. 714, to be effective 7/22/2010.

Filed Date: 07/22/2010.

Accession Number: 20100722-5128.

Comment Date: 5 p.m. Eastern Time on Thursday, August 12, 2010.

Docket Numbers: ER10-1899-000.

Applicants: FPL Energy Illinois Wind, LLC.

Description: FPL Energy Illinois Wind, LLC submits tariff filing per 35.12: Illinois Wind Baseline Filing 2, to be effective 7/22/2010.

Filed Date: 07/22/2010.

Accession Number: 20100722-5129.

Comment Date: 5 p.m. Eastern Time on Thursday, August 12, 2010.

Docket Numbers: ER10-1900-000.

Applicants: FPL Energy Maine Hydro, LLC.

Description: FPL Energy Maine Hydro, LLC submits tariff filing per 35.12: Maine Hydro Baseline Filing to be effective 7/22/2010.

Filed Date: 07/22/2010.

Accession Number: 20100722-5131.

Comment Date: 5 p.m. Eastern Time on Thursday, August 12, 2010.

Docket Numbers: ER10-1901-000.

Applicants: Upper Peninsula Power Company.

Description: Upper Peninsula Power Company submits tariff filing per 35.12: Market Based Rate Tariff, Volume No. 1 to be effective 7/22/2010.

Filed Date: 07/22/2010.

Accession Number: 20100722-5132.

Comment Date: 5 p.m. Eastern Time on Thursday, August 12, 2010.

Docket Numbers: ER10-1902-000.

Applicants: FPL Energy Marcus Hook, L.P.

Description: FPL Energy Marcus Hook, L.P. submits tariff filing per 35.12: Marcus Hook Baseline Filing to be effective 7/22/2010.

Filed Date: 07/22/2010.

Accession Number: 20100722-5133.

Comment Date: 5 p.m. Eastern Time on Thursday, August 12, 2010.

Docket Numbers: ER10-1903-000.

Applicants: FPL Energy MH50 L.P.

Description: FPL Energy MH50 L.P. submits tariff filing per 35.12: MH50 Baseline Filing, to be effective 7/22/2010.

Filed Date: 07/22/2010.

Accession Number: 20100722-5134.

Comment Date: 5 p.m. Eastern Time on Thursday, August 12, 2010.

Docket Numbers: ER10-1904-000.

Applicants: Dominion Energy Salem Harbor, LLC.

Description: Dominion Energy Salem Harbor, LLC submits tariff filing per 35.12: Baseline, to be effective 7/22/2010.

Filed Date: 07/22/2010.

Accession Number: 20100722-5135.

Comment Date: 5 p.m. Eastern Time on Thursday, August 12, 2010.

Docket Numbers: ER10-1905-000.

Applicants: FPL Energy Mower County, LLC.

Description: FPL Energy Mower County, LLC submits tariff filing per 35.12: Mower Baseline Filing, to be effective 7/22/2010.

Filed Date: 07/22/2010.

Accession Number: 20100722-5136.

Comment Date: 5 p.m. Eastern Time on Thursday, August 12, 2010.

Docket Numbers: ER10-1906-000.

Applicants: FPL Energy New Mexico Wind, LLC.

Description: FPL Energy New Mexico Wind, LLC submits tariff filing per 35.12: New Mexico Baseline Filing to be effective 7/22/2010.

Filed Date: 07/22/2010.

Accession Number: 20100722-5137.

Comment Date: 5 p.m. Eastern Time on Thursday, August 12, 2010.

Docket Numbers: ER10-1907-000.

Applicants: FPL Energy North Dakota Wind, LLC.

Description: FPL Energy North Dakota Wind, LLC submits tariff filing per 35.12: North Dakota Baseline Filing to be effective 7/22/2010.

Filed Date: 07/22/2010.

Accession Number: 20100722-5138.

Comment Date: 5 p.m. Eastern Time on Thursday, August 12, 2010.

Docket Numbers: ER10-1913-000.

Applicants: Midwest Independent Transmission System.

Description: Midwest Independent Transmission System Operator, Inc submits their Adjacent Balancing Authority Coordination Agreement with Western Area Power Administration etc.

Filed Date: 07/22/2010.

Accession Number: 20100723-0203.

Comment Date: 5 p.m. Eastern Time on Thursday, August 12, 2010.

Docket Numbers: ER10-1914-000.

Applicants: Michigan Waste Energy, Inc.

Description: Michigan Waste Energy, Inc submits a Notice of Cancellation of their initial FERC Electric Tariff, Original Volume 1.

Filed Date: 07/22/2010.

Accession Number: 20100723-0202.

Comment Date: 5 p.m. Eastern Time on Thursday, August 12, 2010.

Take notice that the Commission received the following PURPA 210(m)(3) filings:

Docket Numbers: QM10-5-000.

Applicants: Delmarva Power & Light Company, Potomac Electric Power Company, Atlantic City Electric Company.

Description: Application of Atlantic City Electric Company, Delmarva Power & Light Company and Potomac Electric Power Company to Terminate PURPA Purchase Obligation.

Filed Date: 07/22/2010.

Accession Number: 20100722-5153.

Comment Date: 5 p.m. Eastern Time on Thursday, August 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-18982 Filed 8-2-10; 8:45 am]

BILLING CODE 6717-01-P